NUCLEAR REGULATORY COMMISSION

[SECY-01-0188]

Future Licensing and Inspection Readiness Assessment

AGENCY: Nuclear Regulatory Commission.

ACTION: Notice of availability.

SUMMARY: The Nuclear Regulatory Commission (NRC) is announcing, for information, the availability of SECY-01-0188, “Future Licensing and Inspection Readiness Assessment,” dated October 12, 2001. This document presents the staff's assessment of its readiness to review applications for licenses and to inspect new nuclear power plants in response to the Commission's February 13, 2001, staff requirements memorandum (SRM) for COMJSM-00-0003, “Staff Readiness for New Nuclear Plant Construction and the Pebble Bed Modular Reactor.” Because of the high level of external stakeholder interest in the assessment contained in SECY-01-0188, the Commission is announcing its public availability at this time.

ADDRESSES: SECY-01-0188 is available for inspection and copying for a fee at the Commission's Public Document Room, U.S. NRC's Headquarters Building, 11555 Rockville Pike (first floor), Rockville, Maryland, and electronically from the ADAMS Public Library component on the NRC web site, http://www.nrc.gov (the Electronic Reading Room). The ADAMS accession number for SECY-01-0188 is ML012640279. The NRC maintains an Agencywide Documents Access and Management System (ADAMS), which provides text and image files of NRC's public documents. These documents may be accessed through the NRC's Public Electronic Reading Room on the Internet at http://www.nrc.gov/NRC/ADAMS/index.html. If you do not have access to ADAMS or if there are problems in accessing the documents located in ADAMS, contact the NRC Public Document Room (PDR) Reference staff at 1-800-397-4209, 301-415-4737 or by e-mail to pdr@nrc.gov. A free single copy of SECY-01-0188 will be made available to interested parties until the supply is exhausted. Such copies may be requested by writing to the U.S. Nuclear Regulatory Commission, Distribution Services, Washington, DC 20555-0001 or submitting an e-mail to distribution@nrc.gov.

FOR FURTHER INFORMATION CONTACT: Nanette Gilles, U.S. Nuclear Regulatory Commission, Mail Stop O-11D17, Washington, DC 20555, Phone Number: (301) 415-1180, e-mail: nvg@nrc.gov.

SUPPLEMENTARY INFORMATION: In the SRM for COMJSM-00-0003 the Commission directed the staff to assess its technical, licensing, and inspection capabilities and identify enhancements, if any, that would be necessary to ensure that the agency can effectively carry out its responsibilities associated with an ESP application, a license application, and the construction of a new nuclear power plant. In addition, the staff was directed to critically assess the regulatory infrastructure supporting both part 50 and part 52, and other applicable regulations, and identify where enhancements, if any, are necessary. The Commission further directed the staff to incorporate into its planning the need for early interactions with the Advisory Committee on Reactor Safeguards and to integrate the tasks identified during this effort with the various related activities that are underway. The Commission also directed the staff to provide the Commission with a schedule and resource estimates for completing these tasks. The Commission stated that the staff should encourage the industry to be as specific as possible about its plans and schedules so that the agency can plan and budget for advanced reactor activities without disrupting other current important initiatives. The Commission also stated that the staff should work with NRC stakeholders to exercise, to the extent appropriate, the NRC's review process and identify potential policy issues that should be addressed by the Commission in a timely manner.

The staff provided its initial response to the February 13, 2001, SRM in a May 1, 2001, memorandum to the Commission. As the staff stated in that memorandum, the Future Licensing and Inspection Readiness Assessment (FLIRA) interoffice working group was established to address the ability of the NRC to support future application reviews under 10 CFR parts 50 and 52 and other applicable regulations. The FLIRA working group assessed the following matters:

• Licensing scenarios for the future application reviews, the durations of the reviews, and resource estimates to complete the reviews in full-time equivalents (FTE) for the NRC staff and in dollars for technical assistance support;

• Critical skills that must be available within the agency or that can be accessed through contractual agreements to perform these reviews; and

• Regulatory infrastructure needs to support future licensing reviews.

The attachment to SECY-01-0188 contains the FLIRA working group's assessment report. In developing its estimates of the durations and resources required to conduct the reviews discussed in the report, the staff considered (1) the results of a critical skills and resources survey taken of the staff in August 2001 to support this assessment, (2) industry plans and proposed schedules as discussed in public meetings and correspondence, (3) its past experience with licensing and pre-application reviews; (4) the effect of complex issues on these reviews; and (5) estimates from previous resource and schedule evaluations. The resource estimates developed reflect the most recent information received regarding industry plans and the staff's best estimate at this time regarding resource needs, recognizing that budget realities may not be consistent with the needs. Questions regarding the information contained in SECY-01-0188 should be directed to the contact point identified above.

Dated at Rockville, Maryland, this 26th day of October 2001.
For The Nuclear Regulatory Commission
James E. Lyons,
Director, New Reactor Licensing Project Office, Office of Nuclear Reactor Regulation.

[FR Doc. 01-27577 Filed 11-1-01; 8:45 am]

BILLING CODE 7590-01-P